FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010099-036.

Title: International Council of Containership Operators.

Parties: A.P. Moller-Maersk Sealand; American President Lines, Ltd.; ANL Container Line Pty, Ltd.; APL Co. PTE Ltd.; Atlantic Container Line AB; Australia-New Zealand Direct Line; Canada Maritime; Cast Line; COSCO Container Lines Company, Ltd.; China Shipping Container Lines Co., Ltd.; CMA GCM, S.A.; Compania Sud Americana de Vapores S.A.; Companhia Libra de Navegacao; Contship Containerlines; Crowley Maritime Corp.; Evergreen Marine Corp. (Taiwan), Ltd.; Hamburg Sud; Hanjin Shipping Company, Ltd.; Hapag-Lloyd Container Linie GmbH; Hyundai Merchant Marine Co., Ltd.; Italia de Navigazione SpA; Kawasaki Kisen Kaisha, Ltd.; Lykes Lines Ltd.; Malaysia International Shipping Corp. Berhad; Mediterranean Shipping Company, S.A.; Montemar Maritime S.A.; Mitsui O.S.K. Lines, Ltd.; Nippon Yusen Kaisha; Norasia Container Line Ltd.; Orient Overseas Container Line Limited; P&O Nedlloyd Limited; P&O Nedlloyd B.V.; Pacific International Lines (Pte) Ltd.; TMM Lines Ltd.; United Arab Shipping Co. (S.A.G.); Wan Hai Lines, Ltd.; Wallenius Wilhelmsen Lines AS; Yang Ming Marine Transport Corp.; Zim Israel Navigation Co. Ltd.

Synopsis: The amendment adds Pacific International Lines (Pte) Ltd. as an agreement party.

Agreement No.: 011325-028.

Title: Westbound Transpacific Stabilization Agreement.

Parties: A.P. Moller-Maersk Sealand, American President Lines, Ltd., APL Co. PTE Ltd., COSCO Container Lines Company, Ltd., Evergreen Marine Corp. (Taiwan), Ltd., Hapag-Lloyd Container Linie GmbH, Hanjin Shipping Company, Ltd., Hyundai Merchant Marine Co., Ltd., Kawasaki Kisen Kaisha, Ltd., Mitsui O.S.K. Lines, Ltd., Nippon Yusen Kaisha, Orient Overseas Container Line Limited, P&O Nedlloyd Limited, P&O Nedlloyd B.V., Yang Ming Marine Transport.

Synopsis: The amendment deletes A.P. Moller-Maersk Sealand as an agreement party.

Agreement No.: 11737-007.

Title: The MCA Agreement.

Parties: Alianca Navegacao e Logistica Ltda., Antillean Marine Shipping Corporation, CMA CGM S.A., Companhia Libra de Navegacao, Compania Sud Americana de Vapores S.A., CP Ships (UK) Limited d/b/a ANZDL and d/b/a Contship Containerlines, Crowley Liner Services, Inc., Dole Ocean Cargo Express, Inc., Hamburg-Sud d/b/a Columbus Line and d/b/a Crowley American Transport, Hapag-Lloyd Container Linie, King Ocean Central America S.A., King Ocean Service de Colombia S.A., King Ocean Service de Venezuela S.A., Lykes Lines Limited, LLC, Montemar Maritima S.A., Nippon Yusen Kaisha, Norasia Container Line Limited, Wallenius Wilhelmsen Lines AS, TMM Lines Limited, LLC, Tecmarine Lines, Inc., Tropical Shipping & Construction Co., Ltd.

Synopsis: The proposed amendment adds Atlantic Container Line to the membership list and includes further indemnification language regarding confidentiality.

Agreement No.: 011813.

Title: Frontier/Tecmarine Space Charter Agreement.

Parties: Tecmarine Lines, Inc., Frontier Liner Services, Inc.

Synopsis: The proposed agreement authorizes the parties to charter space to each other in the trade between U.S. East Coast ports and ports in the Dominican Republic.

Agreement No.: 011814.

Title: CAT/King Ocean Space Charter Agreement.

Parties: Hamburg-Süd, King Ocean Services Limited, King Ocean Services de Venezuela.

Synopsis: The proposed agreement authorizes the parties to charter space to/from one another on their respective vessels in the trade between ports on the Atlantic Coast of Florida and ports in Aruba, Bonaire, Curaçao, Colombia, and Venezuela.

Agreement No.: 011815.

Title: Transpacific Space Charter Agreement.

Parties: COSCO Container Lines Company, Limited, Hapag-Lloyd Container Linie GmbH, Nippon Yusen Kaisha, Orient Overseas Container Line Limited/Orient Overseas Container Line Inc./Orient Overseas Container Line (UK) Limited, P&O Nedlloyd Limited/P&O Nedlloyd BV.

Synopsis: The proposed agreement would authorize COSCO to charter space to the other parties on its vessels operating between Asia and the West Coast of North America.

Agreement No.: 011816.

Title: Mediterranean Ancillary Agreement.

Parties: CP Ships Limited, D'Amico Societa di Navigazione SpA, Italia di Navigazione SpA, Medbulk Maritime Co.

Synopsis: Under the proposed agreement, D'Amico agrees not to compete with CP Ships between the United States and ports on the Mediterranean Sea and in Mexico, Central America, and South America for five years.

Agreement No.: 200860-002.

Title: Lease and Operating Agreement.

Parties: Philadelphia Regional Port Authority, Dependable Distribution Services Inc.

Synopsis: The amendment allows for the construction of a temporary storage facility upon Pier 84 South, provides how much the lessor and the lessee will each contribute to the cost of the construction, includes provisions regarding the ownership and control of the temporary structure, and makes adjustments in tonnage fees paid by the lessee.

Dated: August 9, 2002.
By Order of the Federal Maritime Commission.
Bryant L. VanBrakle,
Secretary.

[FR Doc. 02-20667 Filed 8-13-02; 8:45 am]

BILLING CODE 6730-01-P